DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado: Garfield (FEMA Docket No.: B-1871). | City of Rifle (18-08-0695P). | Mr. Scott Hahn, Manager, City of Rifle, 202 Railroad Avenue, Rifle, CO 81650. | City Hall, 202 Railroad Avenue, Rifle, CO 81650. | Feb. 8, 2019 | 085078
Delaware: Kent (FEMA Docket No.: B-1866). | City of Dover (18-03-1850P). | The Honorable Robin R. Christiansen, Mayor, City of Dover, P.O. Box 475, Dover, DE 19903. | Department of Planning and Inspections, 15 Loockerman Plaza, Dover, DE 19901. | Jan. 29, 2019 | 100006
Florida:
Collier (FEMA Docket No.: B-1866). | City of Marco Island (18-04-4433P). | The Honorable Jared Grifoni, Chairman, City of Marco Island Council, 50 Bald Eagle Drive, Marco Island, FL 34145. | Building Department, 50 Bald Eagle Drive, Marco Island, FL 34145. | Feb. 1, 2019 | 120426
Lee (FEMA Docket No.: B-1863). | Town of Fort Myers Beach (18-04-4850P). | The Honorable Tracey Gore, Mayor, Town of Fort Myers Beach, 2525 Estero Boulevard, Fort Myers Beach, FL 33931. | Community Development Department, 2525 Estero Boulevard, Fort Myers Beach, FL 33931. | Jan. 31, 2019 | 120673
Miami-Dade (FEMA Docket No.: B-1863). | City of Doral (18-04-3562P). | The Honorable Juan C. Bermudez, Mayor, City of Doral, 8401 NW 53rd Terrace, 2nd Floor, Doral, FL 33166. | City Hall, 8401 Northwest 53rd Terrace, Doral, FL 33166. | Jan. 31, 2019 | 120041
Miami-Dade (FEMA Docket No.: B-1866). | City of Miami (18-04-4671P). | The Honorable Francis Suarez, Mayor, City of Miami, 3500 Pan American Drive, Miami, FL 33133. | Building Department, 444 Southwest 2nd Avenue, 4th Floor, Miami, FL 33130. | Feb. 13, 2019 | 120650
Monroe (FEMA Docket No.: B-1863). | Unincorporated areas of Monroe County (18-04-4672P). | The Honorable David Rice, Mayor, Monroe County Board of Commissioners, 9400 Overseas Highway, Suite 210, Marathon, FL 33050. | Monroe County Building Department, 2798 Overseas Highway, Suite 300, Marathon, FL 33050. | Jan. 28, 2019 | 125129
Monroe (FEMA Docket No.: B-1866). | Village of Islamorada (18-04-5780P). | The Honorable Chris Sante, Mayor, Village of Islamorada, 86800 Overseas Highway, Islamorada, FL 33036. | Planning and Development Department, 86800 Overseas Highway, Islamorada, FL 33036. | Feb. 7, 2019 | 120424
Orange (FEMA Docket No.: B-1866). | City of Orlando (18-04-3956P). | The Honorable Buddy W. Dyer, Mayor, City of Orlando, P.O. Box 4990, Orlando, FL 32802. | Public Works Department, Engineering Division, 400 South Orange Avenue, 8th Floor, Orlando, FL 32801. | Feb. 1, 2019 | 120186
Osceola (FEMA Docket No.: B-1866). | City of St. Cloud (18-04-5710P). | Mr. Bill Sturgeon, Manager, City of St. Cloud, 1300 9th Street, St. Cloud, FL 34769. | Public Services Department, 1300 9th Street, St. Cloud, FL 34769. | Feb. 7, 2019 | 120191
Pinellas (FEMA Docket No.: B-1863). | City of St. Petersburg (18-04-5337P). | The Honorable Rick Kriseman, Mayor, City of St. Petersburg, 175 5th Street North, St. Petersburg, FL 33701. | Construction Services and Permitting Department, 1 4th Street North, St. Petersburg, FL 33701. | Jan. 28, 2019 | 125148
Georgia: Henry (FEMA Docket No.: B-1863). | Unincorporated areas of Henry County (18-04-3824P). | The Honorable June Wood, Chair, Henry County Board of Commissioners, 140 Henry Parkway, McDonough, GA 30253. | Henry County Stormwater Department, 347 Phillips Drive, McDonough, GA 30253. | Jan. 31, 2019 | 130468
Louisiana: Lafayette (FEMA Docket No.: B-1866). | Unincorporated areas of Lafayette Parish (18-06-3630P). | The Honorable Joel Robideaux, Mayor-President Lafayette Consolidated, Government, P.O. Box 4017-C, Lafayette, LA 70502. | Lafayette Parish Department of Planning and Development, 220 West Willow Street, Building B, Lafayette, LA 70501. | Feb. 1, 2019 | 220101
Maine: York (FEMA Docket No.: B-1866). | City of Saco (18-01-0986P). | The Honorable Marston D. Lovell, Mayor, City of Saco, 300 Main Street, Saco, ME 04072. | City Hall, 300 Main Street, Saco, ME 04072. | Feb. 4, 2019 | 230155
New Mexico: Bernalillo (FEMA Docket No.: B-1866). | City of Albuquerque (18-06-1705P). | The Honorable Timothy M. Keller, Mayor, City of Albuquerque, P.O. Box 1293, Albuquerque, NM 87103. | Planning Department, 600 2nd Street Northwest, Albuquerque, NM 87102. | Feb. 8, 2019 | 350002
North Carolina:, Franklin (FEMA Docket No.: B-1866). | Unincorporated areas of Franklin County (18-04-5161P). | Ms. Angela L. Harris, Manager, Franklin County, 113 Market Street, Louisburg, NC 27549. | Franklin County Planning and Inspections Department, 215 East Nash Street, Louisburg, NC 27549. | Feb. 1, 2019 | 370377
Oklahoma:
Pottawatomie (FEMA Docket No.: B-1866). | City of McLoud (17-06-1163P). | The Honorable Stan Jackson, Mayor, City of McLoud, P.O. Box 300, McLoud, OK 74851. | Pottawatomie County Commissioner's Office, 14101 Acme Road, Shawnee, OK 74801. | Jan. 30, 2019 | 400398
Pottawatomie (FEMA Docket No.: B-1866). | Unincorporated areas of Pottawatomie County (17-06-1163P). | The Honorable John G. Canavan, Jr., Pottawatomie County Judge, 325 North Broadway Avenue, Shawnee, OK 74801. | Pottawatomie County Commissioner's Office, 14101 Acme Road, Shawnee, OK 74801. | Jan. 30, 2019 | 400496
Texas:
Bexar (FEMA Docket No.: B-1871). | City of San Antonio (18-06-0893P). | The Honorable Ron Nirenberg, Mayor, City of San Antonio, P.O. Box 839966, San Antonio, TX 78283. | Transportation and Capital Improvements Department, Stormwater Division, 1901 South Alamo Street, 2nd Floor, San Antonio, TX 78204. | Feb. 4, 2019 | 480045
Bexar (FEMA Docket No.: B-1866). | Unincorporated areas of Bexar County (18-06-1356P). | The Honorable Nelson W. Wolff, Bexar County Judge, 101 West Nueva, 10th Floor, San Antonio, TX 78205. | Bexar County Department of Public Works, 233 North Pecos, Suite 420, San Antonio, TX 78207. | Jan. 28, 2019 | 480035
Bexar (FEMA Docket No.: B-1866). | Unincorporated areas of Bexar County (18-06-1991P). | The Honorable Nelson W. Wolff, Bexar County Judge, 101 West Nueva, 10th Floor, San Antonio, TX 78205. | Bexar County Department of Public Works, 233 North Pecos, Suite 420, San Antonio, TX 78207. | Jan. 28, 2019 | 480035
Denton (FEMA Docket No.: B-1866). | City of Justin (18-06-1570P). | The Honorable David Wilson, Mayor, City of Justin, P.O. Box 129, Justin, TX 76247. | Planning and Zoning Department, 415 North College Avenue, Justin, TX 76247. | Feb. 7, 2019 | 480778
Denton (FEMA Docket No.: B-1866). | Unincorporated areas of Denton County (18-06-1570P). | The Honorable Mary Horn, Denton County Judge, 110 West Hickory Street, 2nd Floor, Denton, TX 76201. | Denton County Public Works Engineering Department, 1505 East McKinney Street, Suite 175, Denton, TX 76209. | Feb. 7, 2019 | 480774
Harris (FEMA Docket No.: B-1866). | City of Baytown (18-06-2955P). | The Honorable Stephen DonCarlos, Mayor, City of Baytown, P.O. Box 424, Baytown, TX 77522. | Engineering Department, 2123 Market Street, Baytown, TX 77522. | Jan. 22, 2019 | 485456
Harris (FEMA Docket No.: B-1866). | Unincorporated areas of Harris County (18-06-0277P). | The Honorable Edward M. Emmett, Harris County Judge, 1001 Preston Street, Suite 911, Houston, TX 77002. | Harris County Permits Office, 10555 Northwest Freeway, Suite 120, Houston, TX 77092. | Jan. 28, 2019 | 480287
Harris (FEMA Docket No.: B-1871). | Unincorporated areas of Harris County (18-06-2182P). | The Honorable Edward M. Emmett, Harris County Judge, 1001 Preston Street, Suite 911, Houston, TX 77002. | Harris County Permits Office, 10555 Northwest Freeway, Suite 120, Houston, TX 77092. | Feb 4, 2019 | 480287
Harris (FEMA Docket No.: B-1866). | Unincorporated areas of Harris County (18-06-2955P). | The Honorable Edward M. Emmett, Harris County Judge, 1001 Preston Street, Suite 911, Houston, TX 77002. | Harris County Permits Office, 10555 Northwest Freeway, Suite 120, Houston, TX 77092. | Jan. 22, 2019 | 480287
Utah: Washington (FEMA Docket No.: B-1866). | City of St. George (18-08-0374P). | The Honorable Jonathan T. Pike, Mayor, City of St. George, 175 East 200 North, St. George, UT 84770. | City Hall, 175 East 200 North, St. George, UT 84770. | Feb. 4, 2019 | 490177

[FR Doc. 2019-03863 Filed 3-4-19; 8:45 am]

BILLING CODE 9110-12-P